ENVIRONMENTAL PROTECTION AGENCY

[EPA-HQ-OECA-2013-0547; FRL—10383-01-OECA]

Proposed Information Collection Request; Comment Request; Performance Evaluation Studies on Wastewater Laboratories (Renewal)

AGENCY: Environmental Protection Agency (EPA).

ACTION: Notice.

SUMMARY: The Environmental Protection Agency (EPA) is planning to submit an information collection request (ICR), “Performance Evaluation Studies on Wastewater Laboratories” (EPA ICR No. 0234.14, OMB Control No. 2080-0021) to the Office of Management and Budget (OMB) for review and approval in accordance with the Paperwork Reduction Act. Before doing so, EPA is soliciting public comments on specific aspects of the proposed information collection as described below. This is a proposed extension of the ICR, which is currently approved through May 31, 2023. An Agency may not conduct or sponsor and a person is not required to respond to a collection of information unless it displays a currently valid OMB control number.

DATES: Comments must be submitted on or before January 30, 2023.

ADDRESSES: Submit your comments, referencing Docket ID No. EPA-HQ-OECA-2013-0547, online using www.regulations.gov (our preferred method), by email to docket.oeca@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Gregory Savitske, Monitoring, Assistance, and Media Programs Division, Office of Compliance, (2227A), Environmental Protection Agency, 1200 Pennsylvania Ave. NW, Washington, DC 20460; telephone number: (202) 564-2601; fax number: (202) 564-0050; email address: Savitske.Gregory@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the Paperwork Reduction Act, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Discharge Monitoring Report-Quality Assurance (DMR-QA) study program participation is mandatory for Major and selected Minor National Pollutant Discharge Elimination System (NPDES) permit holders in accordance with Clean Water Act Section 308. The DMR-QA study program is designed to evaluate the analytic ability of laboratories that perform chemical, microbiological and whole effluent toxicity (WET) analyses required in NPDES permits for reporting results in the Discharge Monitoring Reports (DMR). Under DMR-QA, the permit holder is responsible for having their in-house and/or contract laboratories analyze proficiency test samples and submit results to proficiency testing (PT) providers for grading. Graded results are transmitted by either the permit holder or PT provider to the appropriate federal or state NPDES permitting authority. Permit holders are responsible for submitting corrective action reports to the appropriate permitting authority.

Form Numbers: 6400-01.

Respondents/affected entities: Major and selected Minor permit holders under the Clean Water Act's National Pollutant Discharge Elimination System (NPDES).

Respondent's obligation to respond: Major permit holders must participate annually. Minor permit holders must participate if selected by the state or EPA DMR-QA coordinator.

Estimated number of respondents: 5,500 (total).

Frequency of response: Major permit holders must participate annually. Minor permit holders must participate if selected by the state or EPA DMR-QA coordinator.

Total estimated burden: 36,300 hours (per year). Burden is defined at 5 CFR 1320.03(b).

Total estimated cost: $5,240,070 (per year), includes $3,243,350 annualized capital or operation & maintenance costs.

Changes in estimates: The total estimated respondent burden is projected to remain the same as the ICR currently approved by OMB; this is attributed to the estimated number of respondents receiving this ICR remaining stable over the past three years. Labor costs will likely increase to account for changes in employee benefit and compensation costs as well as inflation. Non-labor costs for obtaining proficiency test samples will also likely increase.

Dated: November 23, 2022.
Elizabeth Vizard,
Acting Director, Monitoring, Assistance, and Media Programs Division, Office of Compliance.

[FR Doc. 2022-26087 Filed 11-29-22; 8:45 am]

BILLING CODE 6560-50-P